DEPARTMENT OF ENERGY

Federal Energy Regulatory Commission

[Project No. 2454-042; New York]

Minnesota Power, Inc.; Notice of Availability of Environmental Assessment

March 31, 2000.

An Environmental Assessment (EA) is available for public review. The EA analyzes the environmental effects of proposed changes to the project boundary for the Sylvan Hydroelectric Project located on the Crow Wing and Gull Rivers in Cass, Crow Wing, and Morrison Counties, Minnesota. The proposed boundary changes would result in the removal of a total of 20.42 acres of land from the project.

The EA was written by staff in the Office of Energy Projects, Federal Energy Regulatory Commission. Based on the environmental analyses presented in the EA, the Commission's staff finds that the proposed project boundary changes would not constitute a major federal action significantly affecting the quality of the human environment.

The EA has been attached to and made a part of an Order Amending License, issued March 21, 2000, for the Sylvan Hydroelectric Project (FERC No. 2454-042). The EA is available for inspection and reproduction at the Commission's Public Reference Room located at 888 First Street, NE, Room 2A, Washington DC 20426. Copies of the EA also may be obtained by calling (202) 208-1371, or by email at Public.ReferenceRoom@ferc.fed.us. The EA also may be viewed on the Commission's web site at http://www.ferc.fed.us/online/rims.htm (call (202) 208-2222 for assistance).

Linwood A. Watson, Jr.,
Acting Secretary.

[FR Doc. 00-8472 Filed 4-5-00; 8:45 am]

BILLING CODE 6717-01-M